DEPARTMENT OF LABOR

Employment and Training Administration

[TA-W-65,084]

Modine Manufacturing Company, Pemberville, OH; Notice of Termination of Investigation

Pursuant to Section 221 of the Trade Act of 1974, as amended, an investigation was initiated on February 3, 2009, in response to a petition filed on behalf of workers at Modine Manufacturing Company, Pemberville, Ohio.

The petitioner has requested that the petition be withdrawn. Consequently, the investigation has been terminated.

Signed at Washington, DC, this 24th day of March 2009.
Elliott S. Kushner,
Certifying Officer, Division of Trade Adjustment Assistance.

[FR Doc. E9-8278 Filed 4-10-09; 8:45 am]

BILLING CODE 4510-FN-P